DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice revises the list of members of the Department of Veterans Affairs (VA) Performance Review Boards, which was published in the Federal Register (Vol. 67, No. 185), on September 24, 2002.

EFFECTIVE DATE: October 14, 2003.

FOR FURTHER INFORMATION CONTACT: Charlotte Moment, Office of Human Resources Management (052B), Department of Veterans Affairs, 810 Vermont Avenue, NW., Washington, DC 20420, (202) 273-8165.

VA Performance Review Board (PRB)

William H. Campbell, Acting Assistant Secretary for Human Resources and Administration (Chairperson)

Nora E. Egan, Chief of Staff

William D. Stinger, Deputy Under Secretary for Benefits, Veterans Benefits Administration

Jonathan B. Perlin, Deputy Under Secretary for Health, Veterans Health Administration

John H. Thompson, Deputy General Counsel

D. Mark Catlett, Principal Deputy Assistant Secretary for Management

Lucretia M. McClenney, Special Assistant

Michael G. Sullivan, Deputy Inspector General

Edward F. Meagher, Deputy Assistant Secretary for Information Technology Management

Eligah D. Clark, Chairman, Board of Veteran's Appeals

Ventris C. Gibson, Deputy Assistant Secretary for Human Resources Management (Alternate)

Michael Walcoff, Associate Deputy Under Secretary for Operations, Veterans Benefits Administration (Alternate)

Laura J. Miller, Assistant Deputy Under Secretary for Health for Operations and Management (Alternate)

Veterans Benefits Administration PRB

William D. Stinger, Deputy Under Secretary for Benefits, (Chairperson)

Robert J. Epley, Associate Deputy Under Secretary for Policy & Program Management

James Bohmbach, Chief Financial Officer

Michael Walcoff, Associate Deputy Under Secretary for Field Operations

Geraldine V. Breakfield, Associate Deputy Under Secretary for Management

Diana M. Rubens, Director, Western Area Office

Ronald R. Aument, Deputy Chief of Staff, Office of the Secretary

Veterans Health Administration PRB

Jonathan B. Perlin, M.D., Ph.D., M.S.H.A., Deputy Under Secretary for Health (Chairperson)

Laura J. Miller, Assistant Deputy Under Secretary for Health for Operations and Management (Vice-Chairperson)

Robert A. Perreault, Director, Business Office

Peter L. Almenoff, M.D., Acting Network Director, VISN 15

Alfonso R. Batres, Ph.D., Chief Readjustment Counseling Officer

Linda W. Belton, Network Director, VISN 11

Lawrence A. Biro, Network Director, VISN 4

Leslie M. Burger, M.D., Network Director, VISN 20

Jeanette A. Chirico-Post, M.D., Network Director, VISN 1

Kenneth J. Clark, Network Director, VISN 22

Thomas J. Craig, M.D., Acting Chief Quality and Performance Officer

Patricia A. Crosetti, Acting Clinical Logistics Officer

Joan E. Cummings, M.D., Network Director, VISN 12

John Dandridge, Jr., Network Director, VISN 9

Jim W. Delgado, Acting Chief Communications Officer

James B. Donahoe, Director, Veterans Canteen Service

James J. Farsetta, Network Director, VISN 3

William F. Feeley, Network Director, VISN 2

Elwood J. Headley, M.D., Network Director, VISN 8

Daniel F. Hoffmann, Network Director, VISN 6

Thomas V. Holohan, M.D., Chief Patient Care Services Officer

Thomas J. Hogan, Director, Management Support Office (Ex Officio)

Joy W. Hunter, Chief Learning Officer/Dean, VA Learning University

Joseph A. Klein, Acting Chief Policy and Planning Officer

Robert M. Kolodner, M.D., Acting Chief Information Officer

Robert E. Lynch, M.D., Network Director, VISN 16

Charles K. Maffet, M.D., Acting Network Director, VISN 19

Susan H. Mather, M.D., Chief Public Health and Environmental Hazards Officer

Patricia A. McKlem, Network Director, VISN 18

Frances M. Murphy, M.D., M.P.H., Deputy Under Secretary for Health Policy Coordination

James J. Nocks, M.D., Network Director, VISN 5

Jimmy A. Norris, Chief Financial Officer

Clyde L. Parkis, Network Director, VISN 10

Robert A. Petzel, M.D., Interim Network Director, VISN 23

Stephanie H. Pincus, M.D., M.B.A., Chief Academic Affiliations Officer

Cathy Rick, R.N., M.S.N., Chief Nursing Officer

Thomas J. Stranova, Network Director, VISN 17

Linda F. Watson, Network Director, VISN 7

Nevin Weaver, VHA Chief of Staff

Robert L. Wiebe, M.D., Network Director, VISN 21

Nelda P. Wray, M.D., M.P.H., Chief Research and Development Officer

Charles V. Yarbrough, Chief Facilities Management Officer

Dennis M. Duffy, Principal Deputy Assistant Secretary for Policy, Planning and Preparedness

Office of Inspector General PRB

David A. Brinkman, Director, Audit Follow-up Director, Department of Defense (Chairperson)

Nancy Hendricks, Assistant Inspector General for Audit, Federal Emergency Management Agency

George Grob, Deputy Inspector General for Evaluation and Inspections, Department of Health and Human Services

Dated: October 2, 2003.
Anthony J. Principi,
Secretary of Veterans Affairs.

[FR Doc. 03-25841 Filed 10-10-03; 8:45 am]

BILLING CODE 8320-01-M